COMMISSION ON CIVIL RIGHTS

Notice of Public Meetings of the Puerto Rico Advisory Committee to the U.S. Commission on Civil Rights; Revision to Registration Links

AGENCY: Commission on Civil Rights.

ACTION: Notice: Revision to registration links, all other Zoom information remains the same (i.e., phone numbers) but is included for convenience.

SUMMARY: The Commission on Civil Rights published a notice in the Federal Register of May 6, 2024, virtual panel briefings of the Puerto Rico Advisory Committee. The notice is in FR Doc. 2024-09743, in the second and third columns of page 37168 and the first column of page 37169. This document contains revised registration links for each briefing date.

DATES: March 13, 2023, Monday at 1:00 p.m. (CT) and April 10, 2023, Monday at 1:00 p.m. (CT).

Revised Addresses: Meetings will be held via the same Zoom information.

Panel 1 May 21 Revised Registration Link (Audio/Visual): https://tinyurl.com/22swycnb; password, if needed: USCCR-PR

Panel 1 Phone (Audio Only): 1-833 435 1820 USA Toll Free; Meeting ID: 160 217 7958 #

Panel 2 May 30 Revised Registration Link (Audio/Visual): https://tinyurl.com/ydz8djnj; password, if needed: USCCR-PR

Panel 2 Phone (Audio Only): 1-833 435 1820 USA Toll Free; Meeting ID: 160 461 9474 #

Panel 3 June 4 Revised Registration Link (Audio/Visual): https://tinyurl.com/26um2ra2; password, if needed: USCCR-PR

Panel 3 Phone (Audio Only): 1-833 435 1820 USA Toll Free; Meeting ID: 160 962 4965 #

FOR FURTHER INFORMATION CONTACT: Victoria Moreno, at vmoreno@usccr.gov or by phone at (434) 515-0204.

Dated: May 7, 2024.
David Mussatt,
Supervisory Chief, Regional Programs Unit.

[FR Doc. 2024-10302 Filed 5-10-24; 8:45 am]

BILLING CODE 6335-01-P